DEPARTMENT OF AGRICULTURE

Animal and Plant Health Inspection Service

[Docket No. APHIS-2007-0060]

Emerald Ash Borer; Availability of an Environmental Assessment and Finding of No Significant Impact

AGENCY: Animal and Plant Health Inspection Service, USDA.

ACTION: Notice.

SUMMARY: We are advising the public that an environmental assessment and finding of no significant impact have been prepared by the Animal and Plant Health Inspection Service relative to the release of three insect parasitoid species for the biological control of the emerald ash borer (Agrilus planipennis). The environmental assessment documents our review and analysis of environmental impact associated with, and alternatives to, the release of these biological control agents. Based on its finding of no significant impact, the Animal and Plant Health Inspection Service has determined that an environmental impact statement need not be prepared.

FOR FURTHER INFORMATION CONTACT: Dr. Juli Gould, Entomologist, Otis Pest Survey, Detection, and Exclusion Laboratory, PPQ, APHIS, Building 1398, Otis ANGB, MA 02542-5008; (508) 563-9303 ext. 220.

SUPPLEMENTARY INFORMATION:

Background

The emerald ash borer (EAB) (Agrilus planipennis) is a destructive woodboring insect that attacks ash trees (Fraxinus spp., including green ash, white ash, black ash, and several horticultural varieties of ash). The insect, which is indigenous to Asia and known to occur in China, Korea, Japan, Mongolia, the Russian Far East, Taiwan, and Canada, eventually kills healthy ash trees after it bores beneath their bark and disrupts their vascular tissues.

The EAB regulations in 7 CFR 301.53-1 through 301.53-9 restrict the interstate movement of regulated articles from quarantined areas to prevent the artificial spread of EAB into noninfested areas of the United States. The States of Illinois, Indiana, and Ohio; Prince George's County, MD; and portions of the State of Michigan are currently designated as quarantined areas.

Despite State and Federal quarantines designed to contain EAB, the lack of effective methods to detect EAB-infested trees and the large area of EAB infestation has resulted in a shift in strategy by regulatory agencies from area-wide eradication to eradication in outlying areas and containment in the core infestation areas. In the United States, EAB eradication efforts involve the removal of all ash trees within a specified radius around known infestations. However, by the time an infestation is discovered and treated, EAB has usually already dispersed outside the eradication zone. Besides natural dispersal, the spread of EAB has been accelerated through human-assisted movement of infested ash firewood, timber, solid wood packing materials, and nursery stock. As EAB spreads in North America, regulatory agencies, land managers, and the public are seeking sustainable management tools such as biological control to reduce EAB population densities and to slow its spread.

On May 23, 2007, we published in the Federal Register (72 FR 28947-28948, Docket No. APHIS-2007-0060) a notice ¹ in which we announced the availability for public review and comment of an environmental assessment, entitled “Proposed Release of Three Parasitoids for the Biological Control of the Emerald Ash Borer (Agrilus planipennis) in the Continental United States” (April 2, 2007), that examined the potential effects on the quality of the human environment that may be associated with the release of three specific biological control agents to control infestations of EAB within the continental United States. APHIS and the Forest Service proposed to release the three parasitoids into the environment of the continental United States for the purpose of reducing EAB populations. These parasitoids are known to attack EAB consistently in its native habitat in China. Post-release monitoring of the spread and establishment of each parasitoid species and impacts on EAB and non-target wood-boring beetles will also be conducted.

¹ To view the notice, the environmental assessment, the finding of no significant impact, and the comments we received, go to http://www.regulations.gov/fdmspublic/component/main?main=DocketDetail&d=APHIS-2007-0060.

We solicited comments on the environmental assessment for 30 days ending June 22, 2007. We received 41 comments by that date, of which 30 supported the release of the biological control agents to control infestations of EAB. The 11 comments that opposed the release are addressed at length in the updated environmental assessment.

In this document, we are advising the public of our decision and finding of no significant impact regarding the release of three insect parasitoid species for the biological control of the emerald ash borer. This decision is based upon the updated environmental assessment, entitled “Proposed Release of Three Parasitoids for the Biological Control of the Emerald Ash Borer (Agrilus planipennis) in the Continental United States” (July 2007).

The updated environmental assessment and finding of no significant impact may be viewed on the Regulations.gov Web site ² or in our reading room at USDA, room 1141, South Building, 14th Street and Independence Avenue, SW., Washington, DC, between 8 a.m. and 4:30 p.m., Monday through Friday, except holidays. Persons wishing to view the updated environmental assessment and finding of no significant impact are requested to call ahead on (202) 690-2817 to facilitate entry into the reading room. You may request paper copies of the updated environmental assessment and finding of no significant impact by calling or writing to the person listed under FOR FURTHER INFORMATION CONTACT. Please refer to the title of the environmental assessment when requesting copies.

² See footnote 1.

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 27th day of September 2007.
Kevin Shea,
Acting Administrator, Animal and Plant Health Inspection Service.

[FR Doc. E7-19647 Filed 10-3-07; 8:45 am]

BILLING CODE 3410-34-P